FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Acting Administrator has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR part 10, Environmental Consideration. No environmental impact assessment has been prepared.

Regulatory Flexibility Act

The Acting Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Autauga (FEMA Docket No. D-7511) | Unincorporated Areas | April 7, 2001, April 14, 2001, Prattville Progress | Mr. Clyde O. Chambliss, Jr., Chairman of the County Commission, 134 North Court Street Prattville, Alabama 36067 | Mar. 26, 2001 | 010314 B
Morgan (FEMA Docket No. D-7513) | City of Decatur | May 29, 2001, June 5, 2001, The Decatur Daily | The Honorable Julian Price, Mayor of the City of Decatur, P.O. Box 488, Decatur, Alabama 35602 | Sept. 4, 2001 | 010176
Autauga, Lowndes, Elmore & Montgomery (FEMA Docket No. D-7509) | City of Montgomery | March 30, 2001, April 6, 2001,The Montgomery Advertiser | The Honorable Bobby N. Bright, Mayor of the City of Montgomery, City Hall, P.O. Box 1111, Montgomery, Alabama 36101 | Mar. 22, 2001 | 010174 F
Connecticut: New Haven (FEMA Docket No. D-7513) | Town of Branford | June 11, 2001, June 18, 2001, New Haven Register | Mr. Anthony Daros, Town of Branford First Selectman, Town Hall, P.O. Box 150, Branford, Connecticut 06405 | June 1, 2001 | 090073 C
Florida:
Alachua (FEMA Docket No. D-7509) | Unincorporated Areas | March 9, 2001, March 16, 2001, The Gainesville Sun | Mr. Randall H. Reid, Alachua County Manager, P.O. Box 2877, Gainesville, Florida 32602 | Feb. 26, 2001 | 120001 A
Charlotte (FEMA Docket No. D-7513) | Unincorporated Areas | July 2, 2001, July 9, 2001, Charlotte Sun Herald | Mr. Jan Winters, Charlotte County Administrator, 18500 Murdock Circle, Room 536, Port Charlotte, Florida 33948-1094 | June 25, 2001 | 120061 D
Manatee (FEMA Docket No. D-7511) | Unincorporated Areas | April 12, 2001, April 19, 2001, Bradenton Herald | Mr. Ernie Padgett, Manatee County Administrator, P.O. Box 1000, Bradenton, Florida 34206 | Apr. 4, 2001 | 120153 B
Monroe (FEMA Docket No. D-7509) | Unincorporated Areas | March 13, 2001, March 20, 2001, The Key-West Citizen | Mr. James Roberts, Monroe County Administrator, 5100 College Road, Key West, Florida 33040 | Feb. 27, 2001 | 125129 G
Pasco (FEMA Docket No. D-7509) | Unincorporated Areas | February 6, 2001, February 13, 2001, St. Petersburg Times | Mr. John J. Gallagher, Pasco County Administrator, West Pasco Government Center, 7530 Little Road, New Port Richey, Florida 34654 | Jan. 25, 2001 | 120230 D
Seminole (FEMA Docket No. D-7513) | Unincorporated Areas | May 30, 2001 June 6, 2001, Seminole Herald | Mr. Kevin Grace, Manager of Seminole County, 1101 East First Street, Sanford, Florida 32771 | May 23, 2001 | 120289 E
Illinois:
DuPage and Will (FEMA Docket No. D-7513) | Village of Bolingbrook | July 6, 2001, July 13, 2001, The Bolingbrook Sun | The Honorable Roger C. Claar, Mayor of the Village of Bolingbrook, 375 West Briarcliff Road, Bolingbrook, Illinois 60440-0951 | June 26, 2001 | 170812 F
Macon (FEMA Docket No. D-7511) | City of Decatur | March 21, 2001, March 28, 2001, Decatur Tribune | The Honorable Terry Howley, Mayor of the City of Decatur, 1 Gary K. Anderson Plaza, Decatur, Illinois 62523 | June 27, 2001 | 170429 C
Kendall (FEMA Docket No. D-7511) | Unincorporated Areas | April 19, 2001, April 26, 2001, Kendall County Record | Mr. John A. Church, Chairman of the Kendall County Board, 111 West Fox Street, Yorkville, Illinois 60560 | July 26, 2001 | 170341 C
Cook (FEMA Docket No. D-7513) | Village of Northbrook | June 7, 2001, June 14, 2001, Northbrook Star | Mr. Mark W. Damisch, Village of Northbrook President, 1225 Cedar Lane,Northbrook, Illinois 60062-4582 | June 1, 2001 | 170132 F
St. Clair (FEMA Docket No. D-7509) | Unincorporated Areas | February 15, 2001, February 22, 2001, Bellevue News-Democrat | Mr. John Baricevic, Chairman of the St. Clair County Board,St. Clair County Courthouse, 10 Public Square, Bellevue, Illinois 62220-1623 | May 24, 2001 | 170616 B
Will (FEMA Docket No. D-7513) | Unincorporated Areas | July 6, 2001, July 13, 2001, Herald-News | Mr. Joseph Mikan, Will County Executive, 302 North Chicago Street,Joliet, Illinois 60432 | Oct. 12, 2001 | 170695 F
Noble (FEMA Docket No. D-7511) | Unincorporated Areas | May 30, 2001, June 6, 2001, The News-Sun | Mr. Mark Pankap, President of the Noble County Board of Commissioners,Noble County Courthouse, 101 North Orange Street, Albion, Indiana 46701 | Sept. 5, 2001 | 180183 B
Lake (FEMA Docket No. D-7511) | Town of Schererville | March 20, 2001, March 27, 2001 The Times | Mr. Richard Krame, Manager of the Town of Schererville, 833 West Lincoln highway, Suite B20W, Schererville, Indiana 46375 | June 26, 2001 | 180142 B
Kentucky:
Warren (FEMA Docket No. D-7509) | City of Bowling Green | March 13, 2001, March 20, 2001, Daily News | The Honorable Sandy Jones, Mayor of the City of Bowling Green,P.O. Box 430,Bowling Green, Kentucky 42102-0430 | June 19, 2001 | 210219 D
Jefferson (FEMA Docket No. D-7511) | Unincorporated Areas | April 13, 2001, April 20, 2001, The Courier-Journal | Ms. Rebecca Jackson Jefferson County Judge Executive,527 West Jefferson Street, Suite 400,Louisville, Kentucky 40202 | July 20, 2001 | 210120 D
(FEMA Docket No. D-7513) | Lexington-Fayette Urban County Government | May 30, 2001, June 6, 2001, Lexington Herald-Leader | The Honorable Pam Miller,Mayor of the Lexington-Fayette Urban County Government, 200 East Main Street, 12th Floor,Lexington-Fayette Government Building,Lexington, Kentucky 40507 | May 23, 2001 | 210067 C
Michigan: Macomb (FEMA Docket No. D-7513) | City of New Baltimore | June 20, 2001, June 27, 2001, The Bay Voice | The Honorable Joe Grajek, Mayor of the City of New Baltimore, City Hall,36535 Green Street,New Baltimore, Michigan 48047 | June 8, 2001 | 260125 B
Minnesota:
Hennepin (FEMA Docket No. D-7511) | City of Crystal | April 18, 2001, April 25, 2001, Sun Post | The Honorable Peter E. Meinstma, Mayor of the City of Crystal,4141 Douglas Drive, Crystal, Minnesota 55422 | July 25, 2001 | 270156 C
Hennepin (FEMA Docket No. D-7511) | City of Medicine Lake | April 18, 2001, April 25, 2001 Sun-Sailor | The Honorable Thomas Schrader,Mayor of the City of Medicine Lake,10609 South Shore Drive,Medicine Lake, Minnesota 55441 | July 25, 2001 | 270690 A
Hennepin (FEMA Docket No. D-7511) | City of Minneapolis | April 18, 2001, April 25, 2001, Finance and Commerce | The Honorable Sharon Sayles Belton, Mayor of the City of Minneapolis, Minneapolis City Hall, 350 South Fifth Street, Room 331, Minneapolis, Minnesota 55415 | July 25, 2001 | 270172 B
Hennepin (FEMA Docket No. D-7511) | City of Plymouth | April 18, 2001, April 25, 2001, Sun-Sailor | The Honorable Joy Tierney, Mayor of the City of Plymouth, 3400 Plymouth Boulevard, Plymouth, Minnesota 55447 | July 25, 2001 | 270179 C
Mississippi: Madison (FEMA Docket No. D-7513) | City of Ridgeland | May 17, 2001, May 24, 2001, Madison County Journal | The Honorable Gene F. McGee, Mayor of the City of Ridgeland, P.O. Box 217, Ridgeland, Mississippi 39158 | May 10, 2001 | 280110 D
New Hampshire:
Sullivan (FEMA Docket No. D-7513) | City of Claremont | July 23, 2001, July 30, 2001, Eagle Times | Mr. Richard Hodgkinson, City Manager of Claremont, 58 Tremont Square, City Hall, Claremont, New Hampshire 03743 | July 11, 2001 | 330154 C
Hillsborough (FEMA Docket No. D-7513) | Town of Hollis | June 19, 2001, June 26, 2001, The Telegraph | Mr. Daniel McManus, Chairman of the Board of Selectmen, 7 Monument Square, Hollis, New Hampshire 03049 | Sept. 25, 2001 | 330091 B
New Jersey:
Burlington (FEMA Docket No. D-7511) | Township of Evesham | April 19, 2001, April 26, 2001, Central Records | The Honorable Augustus F. Tamburro, Mayor of the Township of Evesham, Municipal Building, 984 Tuckerton Road, Marlton, New Jersey 08053 | Apr. 5, 2001 | 340097 C
Burlington (FEMA Docket No. D-7511) | Township of Evesham | April 19, 2001, April 26, 2001, Central Records | The Honorable Augustus F. Tamburro, Mayor of the Township of Evesham, Municipal Building, 984 Tuckerton Road, Marlton, New Jersey 08053 | Apr. 5, 2001 | 340097 C
New York:
Schoharie (FEMA Docket No. D-7511) | Village of Cobleskill | February 21, 2001, February 28, 2001, Times Journal | The Honorable William Gilmore, Mayor of the Village of Cobleskill, Village Offices, P.O. Box 169, Cobleskill, New York 12043 | Aug. 9, 2001 | 360743 B
Westchester (FEMA Docket No. D-7511) | Village of Larchmont | May 21, 2001, May 28, 2001, The Journal News | Mr. R. Joseph Morgan, Larchmont Village Engineer, Municipal Building, 120 Larchmont Avenue, Larchmont, New York 10538 | Nov. 7, 2001 | 360915 B
Oneida (FEMA Docket No. D-7511) | City of Utica | May 18, 2001, May 25, 2001, The Observer Dispatch | The Honorable Timothy J. Julian, Mayor of the City of Utica, 1 Kennedy Plaza, Utica, New York 13502 | Nov. 7, 2001 | 360558 A
North Carolina:
Buncombe (FEMA Docket No. D-7511) | City of Asheville | May 10, 2001, May 17, 2001, The Asheville Citizen-Times | The Honorable Leni Sitnick, Mayor of the City of Asheville, 70 Court Plaza P.O. Box 7148, Asheville, North Carolina 28802 | Aug. 16, 2001 | 370032 C
Brunswick (FEMA Docket No. D-7513) | Unincorporated Areas | June 28, 2001, July 5, 2001, Wilmington Morning Star | Mr. Marty Lawing, Brunswick County Manager,P.O. Box 249, 45 Courthouse Drive,Bolivia, North Carolina 28422 | Oct. 4, 2001 | 370295 C
Orange (FEMA Docket No. D-7513) | Town of Carrboro | May 21, 2001, May 28, 2001, Chapel Hill Herald | Mr. Robert W. Morgan, Manager of the Town of Carrboro,301 West Main Street,Carrboro, North Carolina 27510 | Aug. 27, 2001 | 370275 C
Wake (FEMA Docket No. D-7513) | Town of Garner | July 18, 2001, July 25, 2001, The News and Observer | Ms. Mary Lou Rand, Town Manager, P.O. Box 446, 900 Seventh Avenue,Garner, North Carolina 27529 | July 11, 2001 | 370240 D
Wake (FEMA Docket No. D-7513) | City of Raleigh | July 18, 2001, July 25, 2001, The News and Observer | The Honorable Paul Y. Coble, Mayor of the City of Raleigh,P.O. Box 590,222 West Hargett Street,Raleigh, North Carolina 27602 | July 11, 2001 | 370243 D
Wake (FEMA Docket No. D-7513) | Unincorporated Areas | July 18, 2001, July 25, 2001, The News and Observer | Mr. David Cooke, Wake County Manager, Suite 1100,337 South Salisbury Street,Raleigh, North Carolina 27602 | July 11, 2001 | 370368 D
Ohio:
Franklin (FEMA Docket No. D-7513) | Unincorporated Areas | May 16, 2001, May 23, 2001, Gahanna News | Mr. Dewey Stokes, President of the Franklin County Board of Commissioners,373 South High Street, 26th Floor,Columbus, Ohio 43215-6304 | Aug. 22, 2001 | 390167 G
Athens (FEMA Docket No. D-7511) | Village of Glouster | March 16, 2001, March 23, 2001, The Athens Messenger | The Honorable David L. Angle, Mayor of the Village of Glouster,16½ Front Street, Glouster, Ohio 45732 | July 20, 2001 | 390018 B
Guernsey (FEMA Docket No. D-7511) | Unincorporated Areas | April 20, 2001, April 27, 2001, The Jeffersonian | Mr. Thomas J. Laughlin, President of the Guernsey County,Board of Commissioners, 128 East 8th Street, Suite 101,Cambridge, Ohio 43725 | July 27, 2001 | 390198 C
Lake (FEMA Docket No. D-7509) | Unincorporated Areas | February 16, 2001, February 23, 2001, News-Herald | Mr. Daniel Troy, President of the Lake County,Board of Commissioners, 105 Main Street, Painesville, Ohio 44077 | May 25, 2001 | 390771 C
Lake (FEMA Docket No. D-7511) | Unincorporated Areas | March 3, 2001, March 10, 2001, News-Herald | Mr. Daniel Troy,President of the Lake County,Board of Commissioners,105 Main Street,Painesville, Ohio 44077 | Aug. 9, 2001 | 390771 C
Pennsylvania:
Montgomery (FEMA Docket No. D-7511) | Township of Abington | March 28, 2001, April 4, 2001, The Record | Ms. Barbara Ferrara, President,Township of Abington, Board of Commissioners,1176 Old York Road, Abington, Pennsylvania 19001 | Mar. 16, 2001 | 420695 E
Schuylkill (FEMA Docket No. D-7511) | City of Pottsville | April 6, 2001, April 13, 2001 Pottsville Republican | The Honorable John D. W. Reiley, Mayor of the City of Pottsville,P.O. Box 50, Pottsville, Pennsylvania 17901 | Mar. 23, 2001 | 420785 B
Puerto Rico:
(FEMA Docket No. D-7511) | Commonwealth | March 22, 2001, March 29, 2001, San Juan Star | The Honorable Sila Maria Calderon, Governor of the Commonwealth of Puerto Rico, P.O. Box 82, La Fortaleza,San Juan, Puerto Rico 00901 | June 11, 2001 | 720000 E
(FEMA Docket No. D-7511) | Commonwealth | March 22, 2001, March 29, 2001, San Juan Star | The Honorable Sila Maria Calderon, Governor of the Commonwealth of Puerto Rico, P.O. Box 82, La Fortaleza, San Juan, Puerto Rico 00901 | June 11, 2001 | 720000 E
Rhode Island: Providence (FEMA Docket No. D-7509) | City of Cranston | March 1, 2001, March 8, 2001, Cranston Herald | The Honorable John O'Leary, Mayor of the City of Cranston, City Hall,869 Park Avenue, Cranston, Rhode Island 02910 | June 7, 2001 | 445396 B
South Carolina: Anderson (FEMA Docket No. D-7513) | Unincorporated Areas | June 20, 2001, June 27, 2001, Anderson Independent | Mr. Joey Preston, Anderson County Administrator,100 South Main Street, P.O. Box 8002,Anderson, South Carolina 29622 | Sept. 26, 2001 | 450013 B
Kershaw (FEMA Docket No. D-7509) | Unincorporated Areas | March 21, 2001, March 28, 2001, The Kershaw News-Era | Mr. Gordon Hartwig, Kershaw County Administrator,1121 Broad Street,Camden, South Carolina 29020 | June 27, 2001 | 450115 D
Richland (FEMA Docket No. D-7513) | Unincorporated Areas | June 28, 2001, July 5, 2001, The State | Mr. T. Cary McSwain, Richland County Administrator, 2020 Hampton Street,P.O. Box 192, Columbia, South Carolina 29202 | June 21, 2001 | 450170 G
Tennessee:
Montgomery (FEMA Docket No. D-7509) | City of Clarksville | March 23, 2001, March 30, 2001, The Leaf-Chronicle | The Honorable Johnny Piper,Mayor of the City of Clarksville, 102 Public Square,Clarksville, Tennessee 37040 | June 29, 2001 | 470137 C
Maury (FEMA Docket No. D-7511) | City of Columbia | May 9, 2001, May 16, 2001, Daily Herald | The Honorable Barbara McIntyre, Mayor of the City of Columbia,707 North Main Street, Columbia, Tennessee 38401 | Aug. 15, 2000 | 475423 D
Williamson (FEMA Docket No. D-7511) | City of Franklin | April 11, 2001, April 18, 2001, Review Appeal | The Honorable Jerry Sharber, Mayor of the City of Franklin,P.O. Box 305, Franklin, Tennessee 37065 | July 18, 2001 | 470206 D
Wilson (FEMA Docket No. D-7513) | City of Lebanon | June 21, 2001, June 28, 2001, The Lebanon Democrat | The Honorable Don Fox, Mayor of the City of Lebanon, 200 Castle Heights Avenue North, Suite 100 Lebanon, Tennessee 37087-2845 | Sept. 27, 2001 | 470208 C
Maury (FEMA Docket No. D-7511) | Unincorporated Areas | May 9, 2001, May 16, 2001, Daily Herald | Mr. Edward Harlam Executive for Maury County, County Courthouse Basement, Public Room 101, Columbia, Tennessee 38401 | Aug. 15, 2001 | 470123 B
Montgomery (FEMA Docket No. D-7509) | Unincorporated Areas | March 23, 2001, March 30, 2001, The Leaf-Chronicle | Mr. Douglas Weiland Montgomery County Executive, 126 Main Street, Clarksville, Tennessee 37041 | June 29, 2001 | 470136 B
Virginia:
Augusta (FEMA Docket No. D-7511) | Unincorporated Areas | May 25, 2001, June 1, 2001, The Daily News Record | Mr. Patrick J. Coffield, Augusta County Administrator, P.O. Box 590, Verona, Virginia 24482 | May 11, 2001 | 510013 B
Fauquier (FEMA Docket No. D-7511) | Unincorporated Areas | March 29, 2001, April 5, 2001, Fauquier Citizen | Mr. G. Robert Lee, Fauquier County Administrator, 40 Culpeper Street, Warrenton, Virginia 20186 | July 5, 2001 | 510055 A
Independent City (FEMA Docket No. D-7511) | City of Roanoke | March 30, 2001, April 6, 2001, Roanoke Times | The Honorable Ralph Smith, Mayor of the City of Roanoke, 215 Church Avenue, S.W., Room 452 Roanoke, Virginia 24011 | July 6, 2001 | 510130 D
Prince William (FEMA Docket No. D-7511) | Unincorporated Areas | April 20, 2001, April 27, 2001, The Potomac News | Mr. Craig S. Gerhart, Prince William County Executive, 1 County Complex Court, Prince William, Virginia 22192 | Apr. 4, 2001 | 510119 D
Spotsylvania (FEMA Docket No. D-7511) | Unincorporated Areas | March 30, 2001, April 6, 2001, Free Lance Star | Mr. L. Kimball Payne III, Spotsylvania County Administrator, P.O. Box 99, Spotsylvania, Virginia 22553 | Sept. 21, 2001 | 510308 C
Wisconsin: Pierce (FEMA Docket No. D-7511) | Unincorporated Areas | March 21, 2001, March 28, 2001, Pierce County Herald | Mr. Richard Wilhelm, Chairman of the Pierce County Board, P.O. Box 128, Ellsworth, Wisconsin 54011 | June 27, 2001 | 555571 C

(Catalog of Federal Domestic Assistance No. 83.100, “Flood Insurance.”)
Dated: December 11, 2001.
Robert F. Shea,
Acting Administrator, Federal Insurance and Mitigation Administration.

[FR Doc. 01-31032 Filed 12-17-01; 8:45 am]

BILLING CODE 6718-04-P